DEPARTMENT OF TRANSPORTATION

Federal Aviation Administration

Notice of a Non-Aeronautical Land-Use Change Effecting the Quitclaim Deed and Federal Grant Assurance Obligations at Blythe Airport, Blythe, CA

AGENCY: Federal Aviation Administration, DOT.

ACTION: Notice of a Non-aeronautical land-use change.

SUMMARY: The Federal Aviation Administration (FAA) proposes to rule and invites public comment on the application for a non-aeronautical land-use change for approximately 829 acres of airport property at Blythe Airport, Blythe, California, from the aeronautical use provisions of the Quitclaim Deed and Grant Agreement Assurances since the land is not needed for aeronautical purposes. The property will be leased for its fair market value and the rental proceeds deposited in the airport account for airport use. The reuse of the land for a solar farm represents a compatible land use that will not interfere with the airport or its operation, thereby protecting the interests of civil aviation and contributing to the self-sustainability of the airport.

DATES: Comments must be received on or before April 4, 2012.

FOR FURTHER INFORMATION CONTACT: Comments on the request may be mailed or delivered to the FAA at the following address: Tony Garcia, Airports Compliance Program Manager, Federal Aviation Administration, Airports Division, Federal Register Comment, P.O. Box 92007, Los Angeles, CA 90009-2007. In addition, one copy of the comment submitted to the FAA must be mailed or delivered to Mr. Colby Cataldi, Assistant Director, Economic Development Agency/Aviation, 3403 10 Street, Suite 500, Riverside, CA 92501.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

Riverside County Economic Development Agency requested a modification of the conditions in the Quitclaim Deed and Grant Agreement Assurances to permit non-aeronautical use of approximately 829 acres of land at Blythe Airport. The subject property is located northeast of the airfield. The land is presently unused and undeveloped. The land will be redeveloped for a solar farm. Riverside County Economic Development Agency proposes to lease the property under the terms of a long-term lease for a solar farm since the land is not needed for aeronautical purposes. Reuse of the land for a solar farm will not impede future development of the airport, which has an abundance of land. The lease rate will be based on the appraised market value and the lease proceeds will be deposited in the airport account and used for airport purposes. The use of the property for a solar farm represents a compatible use. Construction and operations of the solar farm will not interfere with airport operations. The land will become revenue-producing property, which will enhance the self-sustainability of the airport and, thereby, serve the interests of civil aviation.

Issued in Hawthorne, California, on February 28, 2012.
Brian Armstrong,
Manager, Safety and Standards Branch, Airports Division, Western-Pacific Region.

[FR Doc. 2012-5299 Filed 3-2-12; 8:45 am]

BILLING CODE 4910-13-P